DEPARTMENT OF ENERGY

Federal Energy Regulatory Commission

Notice of Commission Staff Attendance

The Federal Energy Regulatory Commission (Commission) hereby gives notice that members of the Commission's staff may attend the following meetings related to the transmission planning activities of the Midcontinent Independent System Operator, Inc. (MISO):

MISO Planning Subcommittee Meeting—June 24, 2014.

MISO Planning Advisory Committee—June 25, 2014.

The above-referenced meetings will be held at: MISO Headquarters, 720 City Center Drive, Carmel, IN 46032.

The above-referenced meetings are open to the public.

Further information may be found at www.misoenergy.org.

The discussions at the meeting described above may address matters at issue in the following proceedings:

Docket No. ER11-1844, Midwest Independent Transmission System Operator, Inc.

Docket No. ER12-2302, Midwest Independent Transmission System Operator, Inc.

Docket No. ER13-186, et. al., Midwest Independent Transmission System Operator, Inc.

Docket No. ER13-187, et. al., Midwest Independent Transmission System Operator, Inc.

Docket No. ER13-1923, Midcontinent Independent System Operator, Inc.

Docket No. ER13-1924, Duquesne Light Company, PJM Interconnection, L.L.C.

Docket No. ER13-1930, Louisville Gas and Electric Company

Docket No. ER13-1937, Southwest Power Pool, Inc.

Docket No. ER13-1938, Midcontinent Independent System Operator, Inc.

Docket No. ER13-1939, Southwest Power Pool, Inc.

Docket No. ER13-1940, Ohio Valley Electric Corporation

Docket No. ER13-1941, Alabama Power Company

Docket No. ER13-1943, Midcontinent Independent System Operator, Inc.

Docket No. ER13-1944, PJM Interconnection, L.L.C.

Docket No. ER13-1945, Midcontinent Independent System Operator, Inc.

Docket No. ER13-1955, Entergy Services, Inc.

Docket No. ER13-1956, Cleco Power LLC

Docket No. ER14-1912, Midcontinent Independent System Operator, Inc.

Docket No. EL13-75, Indicated Load-Serving Entities v. Midcontinent Independent System Operator, Inc. and PJM Interconnection, L.L.C.

Docket No. EL13-76, AmerenEnergy Resources Generating Co. v. Midcontinent Independent System Operator, Inc.

Docket No. EL13-88, Northern Indiana Public Service Company v. Midcontinent Independent System Operator, Inc. and PJM Interconnection, L.L.C.

Docket No. AD12-16, Capacity Deliverability Across the Midwest Independent Transmission System Operator, Inc./PJM Interconnection, L.L.C. Seam

Docket No. AD14-3, Coordination Across the Midcontinent Independent System Operator, Inc./PJM Interconnection, L.L.C. Seam

Docket No. OA08-53, Midwest Independent Transmission System Operator, Inc.

Docket No. EL14-21, Southwest Power Pool, Inc.

Docket No. EL14-30, Midcontinent Independent System Operator, Inc.

Docket No. ER14-1174, Southwest Power Pool, Inc.

Docket No. ER14-1713, Midcontinent Independent System Operator, Inc.

Docket No. ER14-1736, Midcontinent Independent System Operator, Inc.

Docket No. ER14-2022, Midcontinent Independent System Operator, Inc.

Docket No. ER14-2059, Midcontinent Independent System Operator, Inc.

Docket No. ER14-2062, Southwest Power Pool, Inc.

Docket No. ER14-2159, Midcontinent Independent System Operator, Inc.

For more information, contact Jason Strong, Office of Energy Markets Regulation, Federal Energy Regulatory Commission at (202) 502-6124 or jason.strong@ferc.gov.

Dated: June 18, 2014.
Kimberly D. Bose,
Secretary.

[FR Doc. 2014-15086 Filed 6-26-14; 8:45 am]

BILLING CODE 6717-01-P